FEDERAL COMMUNICATIONS COMMISSION

Notice of Public Information Collection(s) Being Reviewed by the Federal Communications Commission for Extension Under Delegated Authority, Comments Requested

August 19, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before October 26, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Benish Shah, Office of Managing Director, (202) 418-7866. For additional information, contact Benish Shah, OMD, 418-7866 or email benish.shah@fcc.gov

SUPPLEMENTARY INFORMATION: OMB Control Number: 3060-0788.

Title: DTV Showings/Interference Agreements.

Form No.: N/A

Type of Review: Extension of a currently approved collection.

Respondents: Business or other for-profit; Not-for-profit institutions.

Number of Respondents and Responses: 300 Respondents; 300 Responses.

Estimated Time Per Response: 5 hours.

Frequency of Response: On occasion reporting requirement, Third party disclosure requirement.

Obligation to Respond: Required to obtain or retain benefits. Statutory authority for this information collection is contained in 47 U.S.C. sections 154(i), 303 and 308.

Total Annual Burden: 1,500 hours.

Total Annual Cost: $2,400,000.

Privacy Act Impact Assessment: N/A.

Nature and Extent of Confidentiality: There is no need for confidentiality.

Needs and Uses: The Commission will submit this expiring information collection after this comment period to the Office of Management and Budget (OMB) to obtain the three year clearance from them. There is no change to the Commission's reporting requirement. There is no change to the Commission's burden estimates.

Section 73.623 (c) requires applicants to submit a technical showing to establish that their proposed facilities will not result in additional interference to TV broadcast and Digital TV (DTV) operations. The Commission permits broadcasters to agree to proposed DTV facilities that do not conform to the initial allotment parameters, even though they might be affected by potential new interference. The Commission will consider granting applications on the basis of interference agreements if it finds that such grants will serve the public interest. These agreements must be signed by all parties to the agreement. In addition, the Commission needs the following information to enable such public interest determinations: a list of parties predicted to receive additional interference from the proposed facility; a showing as to why a grant based on the agreements would serve the public interest; and technical studies depicting the additional interference. The technical showings and interference agreements will be used by FCC staff to determine if the public interest would be served by the grant of the application and to ensure that the proposed facilities will not result in additional interference.

The technical showings and interference agreements will be used by FCC staff to determine if the public interest will be served by the grant of the application and to ensure that the proposed DTV broadcast facilities will not result in additional interference to existing TV and DTV broadcast facilities' operations and earlier filed applications for new or modified DTV facilities.

Federal Communications Commission.
Bulah P. Wheeler,
Deputy Manager,
Office of the Secretary,
Office of Managing Director.

[FR Doc. 2010-21304 Filed 8-26-10; 8:45 am]

BILLING CODE 6712-01-S